DEPARTMENT OF TRANSPORTATION

Federal Aviation Administration

Advisory Circular 120-16D, Air Carrier Maintenance Programs

AGENCY: Federal Aviation Administration (FAA), DOT.

ACTION: Notice of availability.

SUMMARY: This notice announces the issuance and availability of Advisory Circular (AC) 120-16D, “Air Carrier Maintenance Programs”. AC 120-16D is written in plain language format and represents a major revision and update of the earlier version. The AC identifies and describes in detail the functions of the nine elements of the air carrier maintenance programs described in 14 CFR part 119, part 121, and part 135. It explains the background as well as the Federal Aviation Administration's (FAA) regulatory requirements for these programs. As with all advisory Circulars, the material is not a regulation, nor does it establish minimum standards. However, where terms such as “must,” “shall,” and “will” are used in AC 120-16D, such use reflects actual regulatory requirements.

DATES: Advisory Circular 120-16D, Air Carrier Maintenance Programs was issued by the Office of the Director, Flight Standards Service, AFS-1 on March 18, 2003.

FOR FURTHER INFORMATION CONTACT: Russell S. Unangst, Jr., Technical Advisor for Aircraft Maintenance, AFS-304, Federal Aviation Administration, Aircraft Maintenance Division, Flight Standards Service, 800 Independence Ave., SW., Washington, DC 20591; telephone (202) 267-3786; facsimile (202) 267-5115, e-mail russell.unangst@faa.gov.

SUPPLEMENTARY INFORMATION: How To Obtain a Copy of the AC How To Obtain Copies: This AC can be read or downloaded from the Internet at http://www2.faa.gov/avr/afs/index.cfm under the “All Advisory Circulars” hyperlink. Paper copies of the AC will be available in approximately 6-8 weeks from the U.S. Department of Transportation, Subsequent Distribution Office, SVC-121.23, Ardmore East Business Center, 3341 Q 75th Avenue, Landover, MD 20785.

Issued in Washington, DC on March 27, 2003.
David E. Cann,
Manager, Aircraft Maintenance Division, Flight Standards Service.

[FR Doc. 03-8128 Filed 4-2-03; 8:45 am]

BILLING CODE 4910-13-M